DEPARTMENT OF VETERANS AFFAIRS

Voluntary Service National Advisory Committee, Notice of Meeting

The Department of Veterans Affairs (VA) gives under the Federal Advisory Committee Act that the Executive Committee of the VA Voluntary Service (VAVS) National Advisory Committee (NAC) will meet October 18-19, 2017, at the Fleet Reserve Association National Headquarters, First Floor Meeting Room, 125 North West Street, Alexandria, Virginia. On October 18, 2017, the meeting will begin at 8:30 a.m. and end at 4:30 p.m. On October 19, 2017, the meeting will begin at 8:30 a.m. and adjourn at 12:00 p.m. The meeting is open to the public.

The Committee, comprised of fifty-four major Veteran, civic, and service organizations, advises the Secretary, through the Under Secretary for Health, on the coordination and promotion of volunteer activities and strategic partnerships within VA health care facilities, in the community, and on matters related to volunteerism and charitable giving. The Executive Committee consists of 20 representatives from the NAC member organizations.

On October 18, agenda topics will include: NAC goals and objectives; review of minutes from the April 19, 2017, Executive Committee meeting; VAVS update on the Voluntary Service program's activities; VHA update, update on strategic partnerships; Parke Board update; evaluations of the 2017 NAC annual meeting; review of membership criteria and process; and plans for 2018 NAC annual meeting (to include workshops and plenary sessions).

On October 19, agenda topics will include: Subcommittee reports; review of standard operating procedures; review of Fiscal Year 2017 organization data; 2019 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW., Washington, DC 20420, or email at Sabrina.Clark@VA.gov. Any member of the public wishing to attend the meeting or seeking additional information should contact Mrs. Clark at (202) 461-7300.

Dated: August 17, 2017.
Jelessa M. Burney,
Federal Advisory Committee Management Officer.

[FR Doc. 2017-17780 Filed 8-22-17; 8:45 am]

BILLING CODE P